DEPARTMENT OF JUSTICE

Notice of Lodging of Proposed Consent Decree Under the Clean Water Act

On September 18, 2014, the Department of Justice lodged a proposed Consent Decree with the United States District Court for the District of Hawaii in the lawsuit entitled United States et al. v. Hawaii Department of Transportation, Civil Case. No. 14-00408 (D. Hi.).

In this civil enforcement action under the federal Clean Water Act (“Act”), the United States alleges that the Hawaii Department of Transportation (“Defendant”), failed to comply with certain requirements of the Act by failing to comply with terms of the Hawaii National Pollutant Discharge Elimination System (“NPDES”) General Permit for municipal storm water discharges at Honolulu and Kalaeloa Barbers Point Harbors. The complaint further alleges that Defendant violated an administrative order issued by EPA in 2009 requiring correction of violations and deficiencies in Defendant's storm water management plans for the two harbors. The complaint seeks injunctive relief and civil penalties.

The proposed Consent Decree would resolve violations for certain provisions of the Act and the NPDES General Permit for municipal storm water discharges at Honolulu and Kalaeloa Barbers Point Harbors. The proposed Consent Decree requires Defendant to implement a comprehensive storm water management plan over the life of the Consent Decree and pay a civil penalty of $1.2 million.

The publication of this notice opens a period for public comment on the proposed Consent Decree. Comments should be addressed to the Assistant Attorney General, Environment and Natural Resources Division, and should refer to United States et al. v. Hawaii Department of Transportation, Civil Case. No. 14-00408 (D. Hi.), D.J. Ref. No. 90-5-1-1-07488/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. The Justice Department will provide a paper copy of the proposed Consent Decree upon written request and payment of reproduction costs. Please mail your request and payment to: Consent Decree Library, U.S. DOJ—ENRD, P.O. Box 7611, Washington, DC 20044-7611.

Please enclose a check or money order for $20.25 (25 cents per page reproduction cost) payable to the United States Treasury. Additional costs may be incurred for attachments.

Maureen Katz,
Assistant Section Chief, Environmental Enforcement Section, Environment and Natural Resources Division.

[FR Doc. 2014-22685 Filed 9-23-14; 8:45 am]

BILLING CODE 4410-15-P